DEPARTMENT OF TRANSPORTATION

Maritime Administration

United States Merchant Marine Academy Advisory Council

AGENCY: Maritime Administration, Department of Transportation.

ACTION: Notice to solicit members for the United States Merchant Marine Academy Advisory Council.

SUMMARY: The Maritime Administration (MARAD) is seeking to solicit members for the United States Merchant Marine Academy Advisory Council (Council). The Council will provide advice and recommendations to the Secretary of Transportation, MARAD, and the United States Merchant Marine Academy (Academy) on matters related to the Academy.

DATES: Applications must be received on or before 11:59 p.m. Eastern Daylight Time on May 20, 2022.

ADDRESSES: Nominations must be submitted electronically (by email) to the email address listed in the FOR FURTHER INFORMATION CONTACT section. The subject line should state “USMMA Advisory Council Member Nomination.”

FOR FURTHER INFORMATION CONTACT: Mr. Jack Kammerer, Designated Federal Officer, Executive Director, Maritime Administration at Jack.Kammerer@dot.gov or 202-366-2805.

SUPPLEMENTARY INFORMATION:

I. Background

The Council is an advisory committee established pursuant to the National Defense Authorization Act of Fiscal Year 2022, Public Law No 117-81, section 3501(c), codified at 46 U.S.C. 51323, and in accordance with the Federal Advisory Committee Act (FACA), 5 U.S.C. App. 2. The Council, through the Maritime Administrator, will provide the Secretary with advice and recommendations on the issues identified in the National Academy of Public Administration's Comprehensive Assessment of the U.S. Merchant Marine Academy November 2021 report. The advice and recommendations will relate to the morale, discipline, social climate, curriculum, instruction, physical equipment, fiscal affairs, academic methods, administrative policies, infrastructure needs, and other matters relating to the Academy.

Under its charter, the Council is comprised of no fewer than 8 members, but not more than 14 members, appointed by the Secretary for terms of up to two years, and appointed from among individuals with diverse backgrounds and expertise that will allow them to contribute balanced points of view and ideas regarding improving the Academy. Appointees may include individuals who are specially qualified to represent the interests and opinions of: Academia and higher education administration; Academy graduates; Members of the armed forces; Shipping and labor; Experts in the field of sexual assault and sexual harassment prevention and response; Experts in the field of workplace diversity, equity, and inclusion; and Experts in capital improvement planning.

Council members serve without pay. Members may be entitled to reimbursement of expenses related to per diem and travel when attending Council meetings, as authorized under 5 U.S.C. 5703 and 41 CFR part 301. The Council will meet as often as needed to fulfill its mission, but typically four times each fiscal year to address its objectives and duties. The Council will aim to meet in person at least once each fiscal year with additional meetings held via teleconference.

II. Nomination process

Members of the Council are appointed by the Secretary for two-year terms. The selection and appointment process for Council members is designed to ensure continuity of membership, and to afford the Secretary the advisory input of the most capable, diverse, and novel perspectives that the country has to offer.

Individuals interested in serving on the Council are invited to apply for consideration for appointment. There is no application form; however, applicants/nominators should submit the following information:

(1) Contact Information for the nominee, consisting of:

a. Name

b. Title

c. Organization or Affiliation

d. Address

e. City, State, Zip Code

f. Telephone number

g. Email address

(2) Statement of interest limited to 250 words on why the nominee wants to serve on the Council and the unique perspectives and experiences the nominee brings to the Council;

(3) A current resume and category of interest is required;

(4) An affirmative statement that the nominee is not a Federally registered lobbyist seeking to serve on the committee in their individual capacity and the identity of the interests they intend to represent, if appointed as a member of the Council; and

(5) Optional letters of support.

All non-federal members must also complete a background investigation.

The Department of Transportation does not discriminate in employment on the basis of race, color, religion, sex, national origin, political affiliation, sexual orientation, gender identity, marital status, disability and genetic information, age, membership in an employee organization, or other non-merit factors. The Department strives to achieve a diverse candidate pool for all its recruitment actions.

By Order of the Acting Maritime Administrator.
T. Mitchell Hudson, Jr.,
Secretary, Maritime Administration.

[FR Doc. 2022-07143 Filed 4-4-22; 8:45 am]

BILLING CODE 4910-81-P